LIBRARY OF CONGRESS

Copyright Royalty Board

[Docket No. 24-CRB-0005-CRA (2025-2029)]

Adjustment of Cable Statutory License Royalty Rates

AGENCY: Copyright Royalty Board, Library of Congress.

ACTION: Notice announcing commencement of proceeding with request for petitions to participate.

SUMMARY: The Copyright Royalty Judges (Judges) announce the commencement of a proceeding to adjust the rates for the cable statutory license described in section 111 of the Copyright Act. The Judges also announce the date by which a party who wishes to participate in the proceeding must file its Petition to Participate and pay the $150 filing fee.

DATES: Petitions to Participate and the filing fee are due no later than January 27, 2025.

ADDRESSES: The petition to participate form is available online in eCRB, the Copyright Royalty Board's online electronic filing application, at https://app.crb.gov/.

Instructions: The petition to participate process has been simplified. Interested parties file a petition to participate by filling out the petition to participate form in eCRB and paying the fee in eCRB. Do not upload a petition to participate document.

Docket: For access to the docket to read submitted documents, go to eCRB, the Copyright Royalty Board's electronic filing and case management system, at https://app.crb.gov/, and search for docket number 24-CRB-0005-CRA (2025-2029).

FOR FURTHER INFORMATION CONTACT: Anita Brown, CRB Program Specialist, (202) 707-7658, crb@loc.gov.

SUPPLEMENTARY INFORMATION:

Background

Section 111 of the Copyright Act grants a statutory copyright license to cable television systems for the retransmission of over-the-air television and radio broadcast stations to their subscribers. 17 U.S.C. 111(c). In exchange for the license, cable operators submit royalty payments and statements of account detailing their retransmissions semiannually to the Copyright Office. 17 U.S.C. 111(d)(1). The Copyright Office deposits the royalties into the United States Treasury for later distribution to copyright owners of the broadcast programming that the cable systems retransmit. 17 U.S.C. 111(d)(2).

A cable system calculates its royalty payments in accordance with the statutory formula described in 17 U.S.C. 111(d)(1). See 37 CFR part 387. Royalty rates are based upon a cable system's gross receipts from subscribers who receive retransmitted broadcast signals. For rate calculation purposes, cable systems are divided into three tiers based on their gross receipts (small, medium, and large). 17 U.S.C. 111(d)(1)(B) through (F). Both the applicable rates and the tiers are subject to adjustment. 17 U.S.C. 801(b)(2).

Section 804 of the Copyright Act provides that the gross receipts and royalty rates may be adjusted every five years beginning with 2005, thus making 2025 a royalty adjustment year, upon the filing of a petition to initiate a proceeding. 17 U.S.C. 804(b)(1). However, since no petition has been filed pursuant to section 804(b)(1), section 803(b)(1)(A)(i)(V) requires the Judges to publish a Federal Register notice no later than January 5, 2025, commencing this proceeding.

No person with a significant interest has filed a petition to initiate a proceeding in 2024.¹ The Judges must, therefore, publish notice in the Federal Register announcing the commencement of a proceeding and calling for Petitions to Participate. See 17 U.S.C. 803(b)(1).

¹ With respect to the rates for the 2020-2024 period, the Judges adopted a settlement proposed by the participants to leave the then-current rates unchanged. 86 FR 72845, 72846 (Dec. 23, 2021).

Petitions to Participate

Parties filing Petitions to Participate should use the interactive form in eCRB, instead of uploading a document, and must comply with the requirements of § 351.1(b) of the Copyright Royalty Board's regulations.

Dated: December 19, 2024.
David P. Shaw,
Chief Copyright Royalty Judge.

[FR Doc. 2024-30822 Filed 12-26-24; 8:45 am]

BILLING CODE 1410-72-P